DEPARTMENT OF THE INTERIOR

Fish and Wildlife Service

[Docket No. FWS-HQ-MB-2025-0803; FXMB12320900000-256-FF09M30000; OMB Control Number 1018-0167]

Agency Information Collection Activities; Eagle Take Permits and Fees

AGENCY: Fish and Wildlife Service, Interior.

ACTION: Notice of information collection; request for comment.

SUMMARY: In accordance with the Paperwork Reduction Act of 1995 (PRA), we, the U.S. Fish and Wildlife Service (Service), are proposing to renew a currently approved information collection without change.

DATES: Interested persons are invited to submit comments on or before February 2, 2026.

ADDRESSES: Send your comments on the information collection request (ICR) by one of the following methods (please reference OMB Control No. 1018-0167 in the subject line of your comment):

• Internet (preferred): https://www.regulations.gov. Follow the instructions for submitting comments on Docket No. FWS-HQ-MB-2025-0803.

• U.S. mail: Service Information Collection Clearance Officer, U.S. Fish and Wildlife Service, 5275 Leesburg Pike, MS: PRB (JAO/3W); Falls Church, VA 22041-3803.

FOR FURTHER INFORMATION CONTACT: Madonna L. Baucum, Service Information Collection Clearance Officer, by email at Info_Coll@fws.gov, or by telephone at (703) 358-2503. Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: In accordance with the Paperwork Reduction Act (PRA; 44 U.S.C. 3501 et seq.) and its implementing regulations at 5 CFR part 1320, all information collections require approval under the PRA. We may not conduct or sponsor, and you are not required to respond to, a collection of information unless it displays a currently valid Office of Management and Budget (OMB) control number.

As part of our continuing effort to reduce paperwork and respondent burdens, we are again inviting the public and other Federal agencies to comment on continuing collections of information. This helps us assess the impact of our information collection requirements and minimize the public's reporting burden. It also helps the public understand our information collection requirements and provide the requested data in the desired format.

We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be publicly available at any time. While you can ask us in your comment to withhold your personal identifying information from public review, we cannot guarantee that we will be able to do so.

Abstract: The Bald and Golden Eagle Protection Act (Eagle Act; 16 U.S.C. 668-668d) prohibits take of bald eagles and golden eagles except pursuant to Federal regulations. The Eagle Act regulations at title 50, part 22 of the Code of Federal Regulations (CFR) define the “take” of an eagle to include the following broad range of actions: To “pursue, shoot, shoot at, poison, wound, kill, capture, trap, collect, destroy, molest, or disturb.” The Eagle Act allows the Secretary of the Interior to authorize certain otherwise prohibited activities through regulations.

All Service permit applications associated with eagles are in the 3-200 and 3-202 series of forms, each tailored to a specific activity based on the requirements for specific types of permits. We collect standard identifier information for all permits. The information that we collect on applications and reports is the minimum necessary for us to determine if the applicant meets/continues to meet issuance requirements for the particular activity.

The Service proposes to renew the information collections listed below, without change, in order to extend the expiration date for the collection (currently July 31, 2026) while the Service continues to finalize proposed regulations under RIN 1018-BI80, Deregulatory Actions Relating to Migratory Birds and Eagles. As part of that rulemaking, the Service will propose amendments to our miscellaneous provisions relating to migratory birds and eagles. We will propose revisions to current regulations to more efficiently and appropriately authorize activities while meeting our obligations under the Migratory Bird Treaty Act, the Bald and Golden Eagle Protection Act, the Airborne Hunting Act, and the Migratory Bird Hunting and Conservation Stamp Act. We will propose to modify requirements from a prescriptive approach to a performance-based standard approach to allow greater flexibility in compliance. We will also propose to clarify and streamline requirements to improve understanding and ease of compliance. Finally, we will propose to remove certain parts, sections, and subsections to reduce confusion and improve regulatory efficiency, including regulatory language related to airborne hunting, hunting migratory birds, eagle permits, feeding depredating migratory waterfowl, and duck stamp contests. We anticipate publication of that proposed rule under RIN 1018-BI80 in late 2025 or early 2026 and we will provide a separate comment period for information collections associated with that proposed rulemaking.

We will request OMB approval to renew, without change, the following information collection requirements associated with eagles:

(1) Form 3-200-14, “Eagle Exhibition”—This form is used to apply for a permit to possess and use eagles and eagle specimens for educational purposes. The Service uses the information collected via the form to determine whether eagles are legally acquired and will be used for conservation education, and in the case of live eagles, will be housed and handled under safe and healthy conditions.

(2) Form 3-200-15a, “Eagle Parts for Native American Religious Purposes”—This application form is used by enrolled members of federally recognized Native American Tribes to obtain authorization to acquire and possess eagle feathers and parts from the Service's National Eagle Repository (NER). The permittee also uses the form to make additional requests for eagle parts and feathers from the NER. The Service uses the information collected via the form to verify that the applicant is an enrolled member of a federally recognized Tribe, and what parts and/or feathers the applicant is requesting.

(3) Form 3-200-16, “Take of Depredating Eagles & Eagles that Pose a Risk to Human or Eagle Health or Safety—Annual Report”—Applicants use this form to obtain authorization to take eagles that depredate on wildlife or livestock, or those that pose a risk to personal property or human or eagle health or safety. A depredation permit is intended to provide short-term relief from depredation damage until long-term measures can be implemented to reduce or eliminate the depredation problem through nonlethal control techniques. The Service uses the information collected via the form to determine whether the take is necessary to protect the relevant interests; other alternatives have been considered; and the method of take is humane and compatible with the preservation of eagles.

(4) Form 3-200-18, “Take of Golden Eagle Nests During Resource Development or Recovery”—This application is used by commercial entities engaged in resource development or recovery operations, such as mining or drilling, to obtain authorization to remove or destroy golden eagle nests. The Service uses the information collected via the form to determine whether the take is necessary and will be compatible with the preservation of eagles.

(5) Form 3-200-77, “Native American Eagle Take for Religious Purposes”—Federally recognized Native American Tribes use this form to apply for authorization to take eagles from the wild for Tribal religious purposes. The Service uses the information obtained via the form to determine whether the take is necessary to meet the Tribe's religious needs, they received consent of the landowner, the take is compatible with the preservation of eagles, and any eagles kept alive will be held under humane conditions.

(6) Form 3-200-78, “Native American Tribal Eagle Aviary”—Federally recognized Native American Tribes use this form to apply for authorization to keep live eagles for Tribal religious purposes. The Service uses the information collected via the form to ensure the Tribe has the appropriate facilities and experience to keep live eagles safely and humanely.

(7) Form 3-200-82, “Bald Eagle or Golden Eagle Transport into the United States for Scientific or Exhibition Purposes”—This application form is used by researchers and museums to obtain authorization to temporarily bring eagle specimens into, or take those specimens out of, the United States. The Service uses the information collected via the form to ensure the specimens were legally acquired and will be transported through U.S. ports that can legally authorize the transport, the transport will be temporary as required by statute, and the specimens will be used for purposes authorized by statute.

(8) Form 3-1552 “Native American Tribal Eagle Retention”—A Federal Eagle Remains Tribal Use permit authorizes a federally recognized Native American Tribe to acquire, possess, and distribute to Tribal members whole eagle remains found by a Tribal member or employee on the Tribe's land for Indian religious use. The applicant must be a federally recognized Tribal entity under the Federally Recognized Tribal List Act of 1994, 25 U.S.C. 5131, 108 Stat. 4791 (1994). The Service uses the information collected via the form to identify which Tribe is applying for the permit and to inform the Service as to whether the Tribe is applying before or subsequent to finding the first eagle they want to retain, allowing the Service to choose the appropriate course of action.

(9) Form 3-1591, “Tribal Eagle Retention—Acquisition Form”—The first part of the form (completed by a Service Office of Law Enforcement (OLE) Officer) collects: species, sex, age class of eagle, date and location discovered, date the information was reported to track eagle mortalities, date the remains were transferred to the federally recognized Native American Tribe, name and contact information for the Tribe, and OLE officer name and contact information. The second part of the form (competed by the Tribe) collects: permit number; date the Tribe took possession of the eagle; and Principal Tribal Officer's name, title, and contact information. This form provides the Service with the necessary information needed to track the chain of custody of eagle remains and ensures the Tribe takes possession of them as authorized under the permit.

(10) Form 3-2480, “Eagle Recovery Tag”—The form is used to track dead eagles as they move through the process of laboratory examination to determine cause of death and are sent to the NER for distribution to Native Americans for use in religious ceremonies. The Service uses the information collected to maintain chain of custody for law enforcement and scientific purposes.

(11) Form 3-202-11, “Take of Depredating Eagles & Eagles that Pose a Risk to Human or Eagle Health or Safety—Annual Report”—Permittees use this form to report the outcome of their action involving take of depredating eagles or eagles that pose a risk to human or eagle health or safety. The Service uses the information reported via the form to ascertain whether the planned take was implemented, track how much authorized take occurred in the eagle management unit and local population area, and verify the disposition of any eagles taken under the permit.

(12) Form 3-202-13, “Eagle Exhibition—Annual Report”—Permittees use this form to report activities conducted under an Eagle Exhibition Permit for both live and dead eagles. The Service uses the information reported through this form to verify that eagles held under the permit are used for conservation education.

(13) Form 3-202-14, “Native American Tribal Eagle Aviary—Annual Report”—Permittees use this form to report activities conducted under a Native American Eagle Aviary Permit. The Service uses the information collected via the form to track the live eagles held by federally recognized Tribes for spiritual and cultural practices.

(14) Monitoring Requirements—Most permits that authorize take of eagles or eagle nests require monitoring. We do not require monitoring for intentional take, including when Native American Tribes take an eagle as part of a religious ceremony or when falconers trap golden eagles that are depredating on livestock. In addition to tracking take at population management scales, the Service uses data from monitoring lethal take permits to adjust authorized take levels, compensatory mitigation requirements, and avoidance and minimization measures as specified under the terms of the permit. With regard to wind industry permits, these data also enable the Service to improve future fatality estimates through enhanced understanding of exposure and collision.

(15) Required Notifications—Most permits that authorize take or possession of eagles require a timely notification to the Service by email or phone when an eagle possessed under a possession permit or taken under a take permit dies or is found dead. These fatalities are later recorded in reports submitted to the Service as described above. The timely notifications allow the Service to better track take and possession levels, and to ensure eagle remains are sent to either a forensics lab or the NER. Incidental take permittees are also required to notify the Service via email or phone if a threatened or endangered species is found in the vicinity of the activity for which take is permitted. There is no notification requirement for that beyond reporting each occurrence where take is discovered to have occurred. The Service tracks whether the take level is exceeded or is likely to be exceeded.

(16) Recordkeeping Requirements—As required by 50 CFR 13.46, permittees must keep records of the activity as it relates to eagles and any data gathered through surveys and monitoring, including records associated with the required internal incident reporting system for bald eagle and golden eagle remains found and the disposition of the remains.

(17) Amendments—Amendments to a permit may be requested by the permittee, or the Service may amend a permit for just cause upon a written finding of necessity. A permittee is required to notify the issuing office within 10 calendar days of minor changes.

(18) Transfers—In general, permits issued under 50 CFR part 22 are not transferable. However, when authorized, permits issued under 50 CFR subpart E may be transferred by the transferee providing written assurances of sufficient funding of the avoidance and minimization measures and commitment to carry out the terms and conditions of the permit.

(19) Form 3-200-71, “Eagle Incidental Take”—General and Specific—Form 3-200-71 authorizes the incidental take of eagles where the take results from but is not the purpose of an activity. General permits are valid for 5 years from the date of registration. Specific permits may be valid for up to 30 years.

(20) Form 3-200-72, “Eagle Nest Take”—Form 3-200-72 is used to apply for authorized take of bald eagle nests or golden eagle nests, including relocation, removal, and otherwise temporarily or permanently preventing eagles from using the nest structure for breeding under definitions in 50 CFR 22.300(b). General permits are available for bald eagle nest take for emergency, nest take for health and safety, or nest take for a human-engineered structure, or, if located in Alaska, other purposes. General permits may authorize bald eagle nest removal from the nesting substrate at the location requested and the location of any subsequent nesting attempts by the eagle pair within one-half mile of the location requested for the duration of the permit. Take of an additional eagle nest(s) more than one-half mile away requires additional permit(s). General permits are valid until the start of the next breeding season, not to exceed 1 year. General permits are not available for take of nests located in Indian country (18 U.S.C. 1151), unless the Tribe is the applicant. Specific permits are required for take of a golden eagle nest for any purpose, take for species protection, and, except for Alaska, nest take for other purposes. The tenure of specific permits is set forth on the face of the permit and may not exceed 5 years.

(21) Form 3-200-91, “Eagle Disturbance Take”—General and Specific—Applicants may apply for an eagle disturbance take permit if their activity may result in incidental disturbance of bald eagles or golden eagles. General permits issued under this section are available only for certain activities that cause disturbance of bald eagles and are valid for a maximum of 1 year. General permits are not available for disturbance of nests located in Indian country (18 U.S.C. 1151), unless the Tribe is the applicant. Specific permits are intended for disturbance of a golden eagle nest, disturbance of a bald eagle nest by an activity not specified in paragraph (b) of § 22.280, or disturbance of eagles caused by physical or functional elimination of all foraging area within a territory. The tenure of specific permits is set forth on the face of the permit and may not exceed 5 years.

(22) Permit Reviews—The Service removed the regulatory requirement for specific permits to mandate an administrative check-in with the Service at least every 5 years during the permit tenure. The purpose of 5-year review is to update take estimates and related compensatory mitigation for the subsequent 5-year period. It also provides the Service with an opportunity to amend the permit to reduce or eliminate conservation measures or other permit conditions that prove to be ineffective or unnecessary.

(23) Report Take of Eagles (3rd and 4th Eagles) (50 CFR 22.250(d)(2) and (d)(3))—Permittees must notify the Service in writing within 2 weeks of discovering the take of a third or fourth bald eagle or a third or fourth golden eagle. The notification must include the reporting data required in their permit conditions, their adaptive management plan, and a description and justification of which adaptive management approaches they will be implementing. Upon notification of the take of the fourth bald eagle or fourth golden eagle, the project will remain authorized to incidentally take eagles through the term of the existing general permit but will not be eligible for future general permits.

(24) Audits—The Service conducts audits of general permits to ensure permittees are appropriately interpreting and applying eligibility criteria and complying with permit conditions. Audits may include reviewing application materials for completeness and general permit eligibility. Any required records, plans, or other documents will be requested of the permittee and reviewed. If there is a compliance concern, the applicant will be given the opportunity to submit additional information to address the concern. If, during an audit, the Service determines that the permittee is not eligible for a general permit or is out of compliance with general permit conditions, we will communicate to the permittee options for coming into compliance.

(25) Labeling Requirement—Regulations at 50 CFR 22.4 require all shipments containing bald or golden eagles (alive or dead), their parts, nests, or eggs to be labeled. The shipments must be labeled with the name and address of the person the shipment is going to, the name and address of the person the shipment is coming from, an accurate list of contents by species, and the name of each species.

(26) Requests for Reconsideration Associated with Eagle Permits (Suspension and Revocation)—Persons notified of the Service's intention to suspend or revoke their permit may request reconsideration.

(27) Compensatory Mitigation (50 CFR 22.220)—Permits authorizing eagle take may require compensatory mitigation. Compensatory mitigation must ensure the preservation of the affected eagle species by mitigating an amount equal to or greater than the authorized or expected take. Compensatory mitigation must either reduce another ongoing form of mortality or increase the eagle population of the affected species. Compensatory mitigation for golden eagles must be performed at a 1.2:1 (mitigation: take) ratio. A permit may require compensatory mitigation when the Service determines, according to the best available information, that the take authorized by the permitted activity is not consistent with maintaining the persistence of the local area population of an eagle species.

(28) Single Application for Multiple Activities (50 CFR 13.11(d)(2))—If regulations require more than one type of permit for an activity and permits are issued by the same office, the issuing office may issue one consolidated permit. Applicants may submit a single application in these cases, provided the single application contains all the information required by the separate applications for each permitted activity. In instances where the Service consolidates more than one permitted activity into one permit, the issuing office will charge the highest single fee for the activity permitted. Administration fees are not waived for single applications covering multiple activities.

The public may request copies of any form contained in this information collection by sending a request to the Service Information Collection Clearance Officer (see ADDRESSES).

Title of Collection: Eagle Permits (50 CFR parts 10, 13, and 22).

OMB Control Number: 1018-0167.

Form Numbers: Forms 3-200-14, 3-200-15a, 3-200-16, 3-200-18, 3-200-71, 3-200-72, 3-200-77, 3-200-78, 3-200-82, 3-200-92, 3-200-11 through 3-200-16, 3-1552, 3-1591, 3-2480, 3-202-11, 3-202-13, and 3-202-14.

Type of Review: Extension without change of a currently approved collection.

Respondents/Affected Public: Individuals and businesses. We expect that the majority of applicants seeking long-term permits will be in the energy production and electrical distribution business sectors.

Total Estimated Number of Annual Respondents: 1,117.

Total Estimated Number of Annual Responses: 8,406.

Estimated Completion Time per Response: Varies from 15 minutes to 228 hours, depending on activity.

Total Estimated Number of Annual Burden Hours: 32,882.

Respondent's Obligation: Required to obtain or retain a benefit.

Frequency of Collection: On occasion for applications; annually or on occasion for reports.

Total Estimated Annual Nonhour Burden Cost: $1,737,460 (primarily associated with application processing fees).

An agency may not conduct or sponsor and a person is not required to respond to a collection of information unless it displays a currently valid OMB control number.

The authority for this action is the Paperwork Reduction Act of 1995 (44 U.S.C. 3501 et seq.).

Madonna Baucum,
Information Collection Clearance Officer, U.S. Fish and Wildlife Service.

[FR Doc. 2025-21917 Filed 12-3-25; 8:45 am]

BILLING CODE 4333-15-P